DEPARTMENT OF HOMELAND SECURITY

Federal Emergency Management Agency

[Docket ID FEMA-2017-0002; Internal Agency Docket No. FEMA-B-1751]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before January 24, 2018.

ADDRESSES: The Preliminary FIRM, and where applicable, the FIS report for each community are available for inspection at both the online location and the respective Community Map Repository address listed in the tables below. Additionally, the current effective FIRM and FIS report for each community are accessible online through the FEMA Map Service Center at www.msc.fema.gov or http://www.fema.gov/preliminaryfloodhazarddata for comparison.

You may submit comments, identified by Docket No. FEMA-B-1751, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: October 13, 2017.
Roy E. Wright,
Deputy Associate Administrator for Insurance and Mitigation, Department of Homeland Security, Federal Emergency Management Agency.

Community | Community map repository address
Charleston County, South Carolina and Incorporated Areas
Project: 07-04-4771S Preliminary Date: September 9, 2016
City of Charleston | Engineering Department, 2 George Street, Suite 2100, Charleston, SC 29401.
City of Folly Beach | City Hall, 21 Center Street, Folly Beach, SC 29439.
City of Isle of Palms | City Hall, 1207 Palm Boulevard, Isle of Palms, SC 29451.
City of North Charleston | City Hall, 2500 City Hall Lane, North Charleston, SC 29406.
Town of Awendaw | Town Hall, 6971 Doar Road, Awendaw, SC 29429.
Town of Hollywood | Town Hall, 6278 Highway 162, Hollywood, SC 29449.
Town of James Island | Town Hall, 1238-B Camp Road, James Island, SC 29412.
Town of Kiawah Island | Town Hall, 4475 Betsy Kerrison Parkway, Kiawah Island, SC 29455.
Town of McClellanville | Town Hall, 405 Pinckney Street, McClellanville, SC 29458.
Town of Meggett | Town Hall, 4776 Highway 165, Meggett, SC 29449.
Town of Mount Pleasant | Municipal Complex, 100 Ann Edwards Lane, Mount Pleasant, SC 29464.
Town of Ravenel | Town Hall, 5962 Highway 165, Suite 100, Ravenel, SC 29470.
Town of Rockville | Rockville Presbyterian Church, 2479 Sea Island Yacht Club Road, Wadmalaw Island, SC 29487.
Town of Seabrook Island | Town Hall, 2001 Seabrook Island Road, Seabrook Island, SC 29455.
Town of Sullivan's Island | Town Hall, 2056 Middle Street, Sullivan's Island, SC 29482.
Unincorporated Areas of Charleston County | Charleston County Lonnie Hamilton, III Public Services Building, 4045 Bridge View Drive, North Charleston, SC 29405.
Travis County, Texas and Incorporated Areas
Project: 13-06-0041S Preliminary Date: April 7, 2017
City of Austin | Watershed Engineering Division, 505 Barton Springs Road, 12th Floor, Austin, TX 78704.
City of Bee Cave | City Hall, 4000 Galleria Parkway, Bee Cave, TX 78738.
City of Jonestown | City Hall, 18649 FM 1431, Suite 4A, Jonestown, TX 78645.
City of Lago Vista | City Hall, 5803 Thunderbird Street, Lago Vista, TX 78645.
City of Lakeway | City Hall, 1102 Lohmans Crossing Road, Lakeway, TX 78734.
City of Leander | City Hall, 200 West Willis Street, Leander, TX 78641.
City of West Lake Hills | City Hall, 911 Westlake Drive, West Lake Hills, TX 78746.
Unincorporated Areas of Travis County | Travis County Transportation and Natural Resources, 700 Lavaca Street, 5th Floor, Austin, TX 78701.
Village of The Hills | Administrative Offices, 102 Trophy Drive, The Hills, TX 78738.

[FR Doc. 2017-23228 Filed 10-25-17; 8:45 am]

BILLING CODE 9110-12-P